NUCLEAR REGULATORY COMMISSION

[Docket Nos. 50-334 and 50-412; NRC-2008-0531]

Firstenergy Nuclear Operating Company; Notice of Availability of the Final Supplement 36 to the Generic Environmental Impact Statement for License Renewal of Nuclear Plants, Regarding the License Renewal of Beaver Valley Power Station, Units 1 and 2

Notice is hereby given that the U.S. Nuclear Regulatory Commission (the Commission or NRC) has published a final plant-specific supplement to the “Generic Environmental Impact Statement for License Renewal of Nuclear Plants (GEIS),” NUREG-1437, regarding the renewal of operating licenses DPR-66 and NPF-73 for an additional 20 years of operation for the Beaver Valley Power Station, Units 1 and 2, which are located in Shippingport, PA about 25 miles northwest of Pittsburgh, PA. Possible alternatives to the proposed action (license renewal) include no action and reasonable alternative energy sources.

As discussed in Section 9.3 of the final Supplement 36, based on: (1) The analysis and findings in the GEIS; (2) the Environmental Report submitted by FirstEnergy Nuclear Operating Company; (3) consultation with Federal, State, and local agencies; (4) the NRC staff's own independent review; and (5) the NRC staff's consideration of public comments during the scoping and draft Supplemental Environment Impact Statement (SEIS) comment period, the recommendation of the staff is that the Commission determine that the adverse environmental impacts of license renewal for BVPS Units 1 and 2 are not so great that preserving the option of license renewal for energy-planning decision makers would be unreasonable.

The final Supplement 36 to the GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Number for the final Supplement 36 to the GEIS is ML091260011. Persons who do not have access to ADAMS, or who encounter problems in accessing the documents located in ADAMS, should contact the NRC's PDR reference staff by telephone at 1-800-397-4209, or 301-415-4737, or by e-mail at pdr.resource@nrc.gov. In addition, the following libraries have agreed to make the final SEIS available for public inspection.

• Beaver Area Memorial Library, 100 College Ave., Beaver, PA 15009-2704, telephone 724-775-1132

• Beaver County Library System, 1 Campus Drive, Monaca, PA 15061, telephone 724-728-3737

FOR FURTHER INFORMATION, CONTACT: Mr. Emmanuel Sayoc, Projects Branch 2, Division of License Renewal, Office of Nuclear Reactor Regulation, U.S. Nuclear Regulatory Commission, Mail Stop O-11F1, Washington, DC 20555-0001. Mr. Emmanuel Sayoc may be contacted by telephone at 1-800-368-5642, extension 1924 or by e-mail at Emmanuel.Sayoc@nrc.gov.

Dated at Rockville, Maryland, this 14th day of May, 2009. For the Nuclear Regulatory Commission.
David J. Wrona,
Chief, Projects Branch 2, Division of License Renewal, Office of Nuclear Reactor Regulation.

[FR Doc. E9-11877 Filed 5-20-09; 8:45 am]

BILLING CODE 7590-01-P